SMALL BUSINESS ADMINISTRATION

[Disaster Declaration #17784; Alaska Disaster Number AK-00058 Declaration of Economic Injury]

Administrative Declaration of an Economic Injury Disaster for the State of Alaska

AGENCY: U.S. Small Business Administration.

ACTION: Notice.

SUMMARY: This is a notice of an Economic Injury Disaster Loan (EIDL) declaration for the State of Alaska dated 02/09/2023.

Incident: 2022/2023 Bering Sea Snow Crab and Bristol Bay Red King Crab Fisheries Closures.

Incident Period: 10/10/2022 through 05/31/2023.

DATES: Issued on 02/09/2023.

Economic Injury (EIDL) Loan Application Deadline Date: 11/09/2023.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Areas: Aleutian Region REAA, Aleutians East Borough, City and Borough of Juneau, Kenai Peninsula Borough, Kodiak Island Borough, Municipality of Anchorage, Pribilof Islands REAA, Southwest Region REAA.

Contiguous Areas:

Alaska: Chatham REAA, Chugach REAA, Haines Borough, Iditarod Area REAA, Kuspuk REAA, Lake and Peninsula Borough, Lower Kuskokwim REAA, Matanuska-Susitna Borough, Petersburg Borough.

The Interest Rates are:

| Percent
Businesses and Small Agricultural Cooperatives without Credit Available Elsewhere | 3.040
Non-Profit Organizations without Credit Available Elsewhere | 1.875

The number assigned to this disaster for economic injury is 177840.

The State which received an EIDL Declaration #17784 is Alaska.

(Catalog of Federal Domestic Assistance Number 59008)

Isabella Guzman,
Administrator.

[FR Doc. 2023-03190 Filed 2-14-23; 8:45 am]

BILLING CODE 8026-09-P